SMALL BUSINESS ADMINISTRATION

[Disaster Declaration #16700 and #16701; ALABAMA Disaster Number AL-00112]

Presidential Declaration Amendment of a Major Disaster for Public Assistance Only for the State of Alabama

AGENCY: U.S. Small Business Administration.

ACTION: Amendment 2.

SUMMARY: This is an amendment of the Presidential declaration of a major disaster for Public Assistance Only for the State of Alabama (FEMA-4563-DR), dated 10/09/2020.

Incident: Hurricane Sally.

Incident Period: 09/14/2020 through 09/16/2020.

DATES: Issued on 10/13/2020.

Physical Loan Application Deadline Date: 12/08/2020.

Economic Injury (EIDL) Loan Application Deadline Date: 07/09/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for Private Non-Profit organizations in the State of Alabama, dated 10/09/2020, is hereby amended to include the following areas as adversely affected by the disaster.

Primary Counties: Barbour, Butler, Clarke, Coffee, Covington, Crenshaw, Geneva, Houston, Pike, and the Poarch Band of Creek Indians.

All other information in the original declaration remains unchanged.

(Catalog of Federal Domestic Assistance Number 59008)

Cynthia Pitts,
Acting Associate Administrator for Disaster Assistance.

[FR Doc. 2020-23130 Filed 10-19-20; 8:45 am]

BILLING CODE 8026-03-P